DEPARTMENT OF THE INTERIOR

Fish and Wildlife Service

[FWS-R1-ES-2018-N106; FXES11140100000-189-FF01E00000]

Revised Draft Environmental Impact Statement; Amendment to the 1997 Washington State Department of Natural Resources State Lands Habitat Conservation Plan and Incidental Take Permit; Extension of Public Comment Period

AGENCY: Fish and Wildlife Service, Interior.

ACTION: Notice of availability; extension of public comment period.

SUMMARY: The U.S. Fish and Wildlife Service (Service) is extending the public comment period for the revised draft environmental impact statement (RDEIS) addressing an amendment to the 1997 Washington State Department of Natural Resources (WDNR) State Lands Habitat Conservation Plan (HCP) to cover the implementation of a Long-Term Conservation Strategy (LTCS) for the marbled murrelet. The RDEIS also addresses an amendment to the Endangered Species Act incidental take permit for take of marbled murrelet resulting from the implementation of the LTCS. The Service jointly developed the RDEIS with the WDNR. The RDEIS is intended to satisfy the requirements of both the National Environmental Policy Act and the Washington State Environmental Policy Act. If approved, the proposed LTCS will replace an interim marbled murrelet conservation strategy that is currently being implemented under the WDNR HCP. Extending the comment period will allow more time for the public to review the RDEIS and submit comments.

DATES: The comment period for the RDEIS addressing an amendment to the 1997 WDNR State Lands HCP to cover the implementation of a LTCS for the marbled murrelet, which published on September 7, 2018 (83 FR 45458), is extended. Please send your written comments by 11:59 p.m. EST on December 6, 2018.

ADDRESSES: To view the pertinent documents for this proposal, request further information, or submit comments, please use one of the following methods, and note that your information request or comments are in reference to FWS-R1-ES-2018-N106.

• Internet: You can view the DEIS on the internet at www.fws.gov/WWFWO/ or at www.dnr.wa.gov/non-project-actions.

• Hard Copy: Contact one of the sources listed in FOR FURTHER INFORMATION CONTACT to request hard copies.

• Email: Comments may be submitted electronically to WDNR at https://www.dnr.wa.gov/long-term-conservation-strategy-marbled-murrelet. WDNR will transmit all comments received to the Service.

• U.S. Mail: Comments may also be submitted in writing to: SEPA Center, P.O. Box 47015, Olympia, WA 98504-7015. WDNR will transmit all comments received to the Service.

FOR FURTHER INFORMATION CONTACT: Please contact either of the following:

• Mark Ostwald, by telephone at 360-753-9564, by email at Mark_Ostwald@fws.gov, or by U.S. mail at Washington Fish and Wildlife Office, U.S. Fish and Wildlife Service, 510 Desmond Dr., Suite 102, Lacey, WA 98503; or

• SEPA Center, WDNR, by telephone at 360-902-1750, or by email at sepacenter@dnr.wa.gov.

SUPPLEMENTARY INFORMATION: We, the U.S. Fish and Wildlife Service (Service or FWS), have jointly developed with the Washington State Department of Natural Resources (WDNR) a revised draft environmental impact statement (RDEIS) addressing an amendment to the 1997 WDNR State Lands Habitat Conservation Plan (HCP) to cover the implementation of a Long-Term Conservation Strategy (LTCS) for the marbled murrelet. The marbled murrelet (Brachyamphus marmoratus), a seabird, was listed as threatened in 1992 under the Endangered Species Act of 1973, as amended (ESA; 16 U.S.C. 1531 et seq.).

The RDEIS also addresses an amendment to the ESA section 10 incidental take permit (ITP) for take of marbled murrelet resulting from the implementation of the LTCS. The RDEIS is intended to satisfy the requirements of both the National Environmental Policy Act (NEPA; 42 U.S.C. 4321 et seq.) and the Washington State Environmental Policy Act. If approved, the proposed LTCS will replace an interim conservation strategy for the marbled murrelet, which is currently being implemented under the WDNR HCP.

The RDEIS analyzes seven action alternatives and a no action alternative. If approved, the amended ITP would authorize incidental take of the marbled murrelet that would occur as a result of implementation of the LTCS over the remaining 50-year term of the WDNR HCP. The scope of the proposed amendment to the WDNR HCP and ITP, and thus of the RDEIS, is exclusively limited to consideration of the LTCS for the marbled murrelet. A Federal Register notice of availability (83 FR 45458) for the RDEIS was published for a 60-day comment period on September 7, 2018.

In addition to this notice, the U.S. Environmental Protection Agency (EPA) is also publishing a notice announcing the extension of the public comment period on the RDEIS, as required under section 309 of the Clean Air Act (42 U.S.C. 7401 et seq.). The original public comment period for this RDEIS is scheduled to close on November 6, 2018. In order to give the public additional time to review and comment on the RDEIS addressing an amendment to the 1997 WDNR State Lands HCP, the FWS is extending the public comment period. Comments previously submitted on the RDEIS need not be resubmitted, as they will be fully considered in preparing the final RDEIS addressing an amendment to the 1997 WDNR State Lands HCP.

For background information regarding the original EIS and HCP, the interim conservation strategy for the marbled murrelet, and next steps in this process, see the September 7, 2018, Federal Register notice (83 FR 45458).

Public Comments

You may submit your comments and materials by one of the methods listed in ADDRESSES. We specifically request information and comments on the following:

1. Biological information on the marbled murrelet in the terrestrial and marine environments;

2. Cumulative effects on the environment that might influence the status of the marbled murrelet in the ESA listed range;

3. Resiliency of the alternatives in providing current and future marbled murrelet habitat in relation to climate change and future natural disturbance events such as fire and windstorms;

4. Adequacy of the distribution of marbled murrelet habitat to provide conservation over the remaining term of the HCP;

5. Other aspects of the human environment not already identified in the DEIS that may be affected, pursuant to NEPA regulations in the Code of Federal Regulations (CFR) at 40 CFR 1506.6.

6. Other information and documents related to the RDEIS that WDNR has posted on their website at https://www.dnr.wa.gov/long-term-conservation-strategy-marbled-murrelet.

Comments received from the 2016 DEIS public comment period were used to inform the RDEIS. Comments received on the DEIS and this RDEIS will be responded to in the FEIS. If you submitted comments during the comment period for the DEIS, you do not need to resubmit those comments.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive, as well as supporting documentation we use in preparing the FEIS, will be available for public inspection by appointment, during normal business hours, at our Washington Fish and Wildlife Office (see ADDRESSES).

Authority

We provide this notice in accordance with the requirements of section 10(c) of the ESA and its implementing regulations (50 CFR 17.22 and 17.32) and NEPA and its implementing regulations (40 CFR 1506.6).

Katherine Hollar,
Acting Deputy Regional Director, Pacific Region, U.S. Fish and Wildlife Service.

[FR Doc. 2018-24212 Filed 11-2-18; 8:45 am]

BILLING CODE 4333-15-P